DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will allow DOE to comply with a reporting requirement placed on all Federal agencies administering programs subject to Davis-Bacon wage provisions. 29 CFR part 5, Section 5.7(b) requires all Federal agencies administering programs subject to Davis-Bacon wage provisions to submit to the Department of Labor (DOL) a semi-annual compliance and enforcement report. In order for the Department of Energy (DOE) to comply with this reporting requirement, it must collect information from Recipients of Recovery Act funded grants, including state and local agencies; Recovery Act funded Loan and Loan Guarantee Borrowers, DOE direct contractors, and other prime contractors and subcontractors that administer DOE programs subject to Davis-Bacon requirements. DOE Recipients will be asked each six months to report to DOE the same items that DOE must ultimately report to DOL, including information on the number Davis-Bacon Act compliance and enforcement investigations conducted and violations found.

DATES: Comments regarding this collection must be received on or before September 23, 2011. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503. And to Eva Auman, GC-63; Department of Energy; 1000 Independence Ave, SW.; Washington, DC 20585; Fax: 202-586-0325; E-mail: eva.auman@hq.doe.gov

FOR FURTHER INFORMATION CONTACT: Requests for additional information or copies of the information collection instrument and instructions should be directed to Eva Auman, GC-63; Department of Energy; 1000 Independence Ave, SW.; Washington, DC 20585; Fax: 202-586-0325; E-mail: eva.auman@hq.doe.gov. The draft collection instrument is available for review at the following Web site: http://www1.eere.energy.gov/wip/davis-bacon_act.html#ICR_draftcollectioninstrument.

SUPPLEMENTARY INFORMATION: This information collection request contains: (1) OMB Control Number 1910-New; (2) Information Collection Request Title: Davis-Bacon Semi-annual Labor Compliance Report; (3) Type of Request: Regular; (4) Purpose: All Federal agencies administering programs subject to Davis-Bacon wage provisions are required by 29 CFR part 5, Section 5.7(b) to submit to the Department of Labor (DOL) a semi-annual compliance and enforcement report. In order for DOE to comply with this reporting requirement, it must collect information from Recipients of Recovery Act funded grants, including state and local agencies; Recovery Act funded Loan and Loan Guarantee Borrowers, DOE direct contractors, and other prime contractors and subcontractors that administer DOE programs subject to Davis-Bacon requirements. DOE will require that such entities complete and submit a Semi-annual Labor Standard Enforcement Report each six months; (5) Annual Estimated Number of Respondents: 2,400; (6) Annual Estimated Number of Total Responses: 4,800; (7) Annual Estimated Number of Burden Hours: 9,600; (8) Annual Estimated Reporting and Recordkeeping Cost Burden: $0.

Statutory Authority

All Federal agencies administering programs subject to Davis-Bacon wage provisions are required by 29 CFR part 5, section 5.7(b) to submit to the Department of Labor (DOL) a semi-annual compliance and enforcement report. In order for DOE to comply with this reporting requirement, it must collect information from Recipients of Recovery Act funded grants, including state and local agencies; Recovery Act funded Loan and Loan Guarantee Borrowers, DOE direct contractors, and other prime contractors and subcontractors that administer DOE programs subject to Davis-Bacon requirements.

Issued in Washington, DC on August 18, 2011.
Annamaria Garcia,
Supervisor, State Energy Program, Office of Weatherization and Intergovernmental Program, Energy Efficiency and Renewable Energy.

[FR Doc. 2011-21634 Filed 8-23-11; 8:45 am]

BILLING CODE 6450-01-P